COMMISSION ON CIVIL RIGHTS

Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Rights will hold a third briefing on the impact of algorithms on civil rights in Connecticut on Monday, November 7, 2022, at 12:00 p.m. (ET). The briefing will convene virtually. The purpose of the briefing is to hear from an expert on the topic of algorithms and civil rights in Connecticut.

DATES: Monday, November 7, 2022; 12:00 p.m. (ET)

ADDRESSES:

Zoom Link (audio/video): https://tinyurl.com/39afhd6n; passcode, if needed: USCCR-CT.

If Joining by Phone Only: 1-551-285-1373; Meeting ID: 160 503 5892#.

FOR FURTHER INFORMATION CONTACT: Barbara Delaviez at ero@usccr.gov or by phone at 202-539-8246.

SUPPLEMENTARY INFORMATION: If other persons who plan to attend the meeting require other accommodations, please contact Evelyn Bohor at ebohor@usccr.gov at the Eastern Regional Office at least ten (10) working days before the scheduled date of the meeting.

Time will be set aside at the end of the meeting so that members of the public may address the Committee after the briefing during the open comment session. This meeting is available to the public by attendance in person.

Members of the public are entitled to make comments during the open period at the end of the meeting. Members of the public may also submit written comments; the comments must be received in the Regional Programs Unit within 30 days following the meeting. Written comments may be emailed to Barbara de La Viez at ero@usccr.gov. Persons who desire additional information may contact the Regional Programs Unit at (202) 539-8246. Records and documents discussed during the meeting will be available for public viewing as they become available at www.facadatabase.gov. Persons interested in the work of this advisory committee are advised to go to the Commission's website, www.usccr.gov, or to contact the Regional Programs Unit at the above phone number or email address.

Agenda

Monday, November 7, 2022; 12:00 p.m. (ET)

I. Welcome and Roll Call

II. Briefing Panel III: The Impact of Algorithms on Civil Rights in Connecticut

III. Question and Answer Between Panelist and Committee Members

IV. Public Comment

V. Briefing Planning

VI. Adjournment

Dated: October 20, 2022.
David Mussatt,
Supervisory Chief, Regional Programs Unit.

[FR Doc. 2022-23255 Filed 10-25-22; 8:45 am]

BILLING CODE P